DEPARTMENT OF HEALTH AND HUMAN SERVICES

Administration for Children and Families

Submission for OMB Review; Comment Request

Title: The Evaluation of Child Welfare Information Gateway.

OMB No.: New Collection.

(Note: Some of the data collection activities proposed for the Evaluation of Child Welfare Information Gateway were previously approved via Fast Track OMB Clearance. We are seeking regular OMB approval so that future evaluation findings may be publicly disseminated in reports, journals and at conferences to better inform the child welfare field.)

Description: The Children's Bureau (CB), Administration for Children and Families (ACF), U.S. Department of Health and Human Services (HHS) is proposing new or expanded data collection activities as part of its Evaluation of Child Welfare Information Gateway.

Child Welfare Information Gateway (CWIG) is a service of the Children's Bureau, a component within the Administration for Children and Families, and is dedicated to the mission of connecting professionals and concerned citizens to information on programs, research, legislation, and statistics regarding the safety, permanency, and well-being of children and families. The Evaluation of Child Welfare Information Gateway was initiated in response to Executive Order 12862 issued on September 11, 1993. The Order calls for putting customers first and striving for a customer-driven government that matches or exceeds the best service available in the private sector. To that end, CWIG's evaluation is designed to better understand the kind and quality of information services that customers want, as well as customers' level of satisfaction with existing services.

A new Market Research Sub-Study is also being proposed as part of this submission to complement information obtained from the larger Evaluation of Child Welfare Information Gateway. The sub-study component seeks to learn more about how child welfare professionals and students planning to enter the child welfare workforce access and consume work-related information. This national study will focus on understanding child welfare professionals' and students' characteristics, use of technology, and preferences for obtaining information that they use in their work. The goal of the sub-study is to provide child welfare technical assistance providers and other organizations with a better understanding of their target audiences so they can design more effective products, services, and dissemination strategies to reach these populations.

Data collection activities proposed for the Evaluation of Child Welfare Information Gateway include: ten online targeted surveys designed to evaluate CWIG's special initiative websites and other targeted website sections; ten online event surveys administered after CWIG-sponsored webinars, presentations, or other events; five focus groups (each with approximately 10 participants) with users and non-users of CWIG's special initiative websites and other CWIG products and services; and, a general customer survey delivered via multiple modes (e.g., website, email, live chat, print, and phone). The sampling plan for the CWIG general customer survey is designed to reach the various types of customers using Child Welfare Information Gateway services such as professionals, students, and customers looking for assistance with a personal situation while reducing burden for respondents by only asking relevant questions for their backgrounds.

The market research sub-study seeks to deliver surveys and conduct focus groups to gauge online information habits and preferences. The proposed market research sub-study will consist of a national online survey of child welfare professionals and students, which will be administered through four different instruments tailored for four different populations. Ten focus groups (each with 8 to 10 participants) will be used to learn more about different audiences' habits and preferences related to child welfare information access and consumption.

Respondents: The Evaluation of Child Welfare Information Gateway will target all types of possible CWIG users including: State and local governments, the territories, service providers, Tribes and tribal organizations, grantees, researchers, and the general public seeking information and resources from Child Welfare Information Gateway via the website, mail, telephone, Live Chat, and email. The Market Research Sub-Study will target child welfare professionals in state, county, tribal, and private agencies; Court Improvement Program coordinators and directors; judges and attorneys involved in child welfare-related work; and students in Bachelor's and Master's degree programs in social work that receive Title IV-E or IV-B stipends.

Annual Burden Estimates
Instrument | Number of respondents | Number of responses per respondent | Average burden hours per response | Total burden hours
Child Welfare Information Gateway's Targeted Survey | 2,660 | 1 | 0.084 | 223.44
Child Welfare Information Gateway's Event Survey | 900 | 1 | 0.05 | 45
Child Welfare Information Gateway's Focus Group Guide | 50 | 1 | 1 | 50
Child Welfare Information Gateway's General Customer Survey: Questions for Professionals | 960 | 1 | 0.084 | 80.64
Child Welfare Information Gateway's General Customer Survey: Questions for Students | 480 | 1 | 0.05 | 24
Child Welfare Information Gateway's General Customer Survey: Questions for Personal Customers | 960 | 1 | 0.05 | 48
Market Research Sub-Study: Online Information Habits and Preferences Survey (for child welfare professionals in state, county, and private agencies) | 1,800 | 1 | 0.5 | 900
Market Research Sub-Study: Online Information Habits and Preferences Survey (for child welfare professionals working with tribes) | 800 | 1 | 0.5 | 400
Market Research Sub-Study: Online Information Habits and Preferences Survey (for legal professionals working in child welfare) | 1,400 | 1 | 0.5 | 700
Market Research Sub-Study: Online Information Habits and Preferences Survey (for students planning to enter the child welfare workforce) | 810 | 1 | 0.5 | 405
Market Research Sub-Study: Focus Groups on Information Habits and Preferences | 100 | 1 | 1.5 | 150

Estimated Total Annual Burden Hours: 3,026.08 hours.

Additional Information:

Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2018-12468 Filed 6-8-18; 8:45 am]

BILLING CODE 4184-01-P